DEPARTMENT OF EDUCATION

34 CFR Chapter II

RIN 1810-AB22

[Docket ID ED-2014-OESE-0079]

Proposed Requirements—School Improvement Grants—Title I of the Elementary and Secondary Education Act of 1965

AGENCY: Office of Elementary and Secondary Education, Department of Education.

ACTION: Proposed requirements; correction.

SUMMARY: On September 8, 2014, the Department of Education published in the Federal Register a notice of proposed requirements for the School Improvement Grants authorized under title I of the Elementary and Secondary Education Act of 1965, as amended. This notice corrects the Docket ID used to submit public comments that is listed in the Paperwork Reduction Act of 1995 section.

DATES: Effective September 24, 2014.

SUPPLEMENTARY INFORMATION:

Correction

In the Federal Register of September 8, 2014 (79 FR 53254), on page 53275, in the middle column under ADDRESSES, the Docket ID is listed as ED-2014-OESE-0179. The correct Docket ID to comment on the information collection requirements is ED-2014-OESE-0079.

Program Authority: 20 U.S.C. 6303(g); Consolidated Appropriations Act, 2014 (Pub. L. 113-76).

FOR FURTHER INFORMATION CONTACT: Elizabeth Ross, U.S. Department of Education, 400 Maryland Avenue SW., Room 3C116, Washington, DC 20202. Telephone: (202) 260-8961 or by email: Elizabeth.Ross@ed.gov.

If you use a telecommunications device for the deaf (TDD) or a text telephone (TTY), call the Federal Relay Service, toll free, at 1-800-877-8339.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: September 19, 2014.
Deborah S. Delisle,
Assistant Secretary for Elementary and Secondary Education.

[FR Doc. 2014-22690 Filed 9-23-14; 8:45 am]

BILLING CODE 4000-01-P